DEPARTMENT OF COMMERCE

Patent and Trademark Office

[Docket No.: PTO-P-2013-0011]

Elimination of Patents Search Templates

AGENCY: United States Patent and Trademark Office, Commerce.

ACTION: Notice.

SUMMARY: The United States Patent and Trademark Office (USPTO or Office) is eliminating the Patents Search Templates from the USPTO Web site. In 2006, the USPTO implemented Patents Search Templates, which were created to better identify the field of search, search tools, and search methodologies that should be considered each time an invention related to a particular USPC is searched. There are over 1200 search templates covering more than 600 USPC classes and subclasses. Historically, usage of the search templates by the public has been extremely low. Additionally, various aspects of the search templates, such as references to commercial database vendor information, are in need of updating. Further, in January 2013, the USPTO launched a new classification system, the Cooperative Patent Classification (CPC) system, that is based on the International Patent Classification (IPC) system. The CPC, a joint patent classification system developed by the USPTO and the European Patent Office (EPO), incorporates the best classification practices of both the U.S. and European systems. Since CPC is a detailed, collaborative, and dynamic system that will enable patent examiners and the public to efficiently conduct thorough patent searches, the search templates will become obsolete.

DATES: Effective Date: May 21, 2014.

FOR FURTHER INFORMATION CONTACT: Pinchus M. Laufer, Senior Legal Advisor, Office of Patent Legal Administration, Office of the Deputy Commissioner for Patent Examination Policy, by telephone at 571-272-7726; or by mail addressed to: Mail Stop Comments—Patents, Commissioner for Patents, P.O. Box 1450, Alexandria, VA 22313-1450.

SUPPLEMENTARY INFORMATION: The search templates were created to better identify the field of search, search tools, and search methodologies which should be considered each time an invention related to a particular USPC is searched. The USPTO published a notice requesting comments on the proposed elimination of the search templates on October 30, 2013. See Request for Comments on Proposed Elimination of Patents Search Templates, 210 FR 64925 (October 30, 2013). In response, the Office received only one comment; it asserted the usefulness of the search templates in illustrating the scope of patent examination searches.

The search templates, however, are currently out-of-date since they include, for example, outdated commercial database vendor information that could be misleading for external stakeholders. Updating the search templates would require the editing of over 1200 pages and would not be an efficient use of USPTO resources, given that the templates are rarely used by the public.

Also, the search templates are indexed under USPC, which is being phased out in favor of CPC. CPC is an internationally compatible classification system that was launched in January 2013. CPC is a detailed, dynamic classification system that is based on IPC and enables patent examiners and the public to efficiently conduct thorough patent searches. As a result of the implementation of CPC, the search templates will become obsolete. CPC was jointly developed with the EPO and incorporates the best classification practices of both the U.S. and European systems. The USPTO and the EPO also believe that CPC will enhance efficiency and support work sharing initiatives with a view to reducing unnecessary duplication of work, thereby leading to enhanced patent quality and timelier examination of pending applications. Initial feedback from stakeholders confirms that the transition to CPC is a positive development. More information about CPC can be found at http://www.cooperativepatentclassification.org.

Due to the factors discussed above, the Office is removing the search templates from the USPTO Web site and any references to the search templates in USPTO documentation (for example, in the Accelerated Examination FAQs) will be updated to reflect the elimination of the search templates.

Dated: May 15, 2014.
Michelle K. Lee,
Deputy Under Secretary of Commerce for Intellectual Property and Deputy Director of the United States Patent and Trademark Office.

[FR Doc. 2014-11741 Filed 5-20-14; 8:45 am]

BILLING CODE 3510-16-P